DEPARTMENT OF THE INTERIOR

Office of the Secretary

Minerals Management Advisory Board; Notice of Renewal/Revision

AGENCY: Minerals Management Service, Interior.

ACTION: Minerals Management Advisory Board Notice of Renewal/Revision.

SUMMARY: This notice is published in accordance with section 9(a)(2) of the Federal Advisory Committee Act (5 U.S.C. Appendix). Notice is hereby given that the Secretary of the Interior is renewing the Minerals Management Advisory Board Charter.

The purpose of the Minerals Management Advisory Board is to provide advice to the Secretary of the Interior and other officers of the Department of the Interior in the performance of discretionary functions of the Outer Continental Shelf Lands Act, as amended, including all aspects of leasing, exploration, development, and protection of the resources of the OCS. It also allows the Board to advise the Department on discretionary functions under the Federal Oil and Gas Royalty Management Act of 1982, the Federal Oil and Gas Royalty Simplification and Fairness Act, the Geothermal Steam Act of 1970, and the mineral leasing laws for coal and other solid mineral leases.

FOR FURTHER INFORMATION CONTACT: Further information regarding the Board may be obtained from the Office of Policy and Management Improvement, Department of the Interior, Minerals Management Service, 1849 C Street, NW., MS 4230, Washington, DC 20240-0001.

Certification

I hereby certify that the renewal of the Minerals Management Advisory Board Charter is in the public interest in connection with the performance of duties imposed on the Department of the Interior by 43 U.S.C. 1331 et seq., 30 U.S.C. 1701 et seq., and 30 U.S.C. 1001 et seq.

Dated: September 15, 2000.
Bruce Babbitt,
Secretary of the Interior.

[FR Doc. 00-24348 Filed 9-21-00; 8:45 am]

BILLING CODE 4310-MR-M